DEPARTMENT OF LABOR

Employment and Training Administration

[TA-W-54,952]

VF Intimates, LP, Johnstown, PA; Amended Certification Regarding Eligibility To Apply for Worker Adjustment Assistance

In accordance with section 223 of the Trade Act of 1974 (19 U.S.C. 2273) the Department of Labor issued a Certification of Eligibility to Apply for Worker Adjustment Assistance on June 15, 2004, applicable to workers of VF Intimates, LP, Johnstown, Pennsylvania. The notice will be published soon in the Federal Register.

At the request of the State agency, the Department reviewed the certification for workers of the subject firm. The workers are engaged in the production of ladies' intimate apparel.

New findings show that there was a previous certification, TA-W-40,563A, issued on March 5, 2002, for workers of Bestform, Inc., Johnstown Distribution Center, Johnstown, Pennsylvania, (Johnstown operation name was changed in January 2003 to VF Intimates, LP), who were engaged in employment related to the production and distribution of ladies' intimate apparel. That certification expired on March 5, 2004. To avoid an overlap in worker group coverage, the certification is being amended to change the impact date from May 18, 2003 to March 6, 2004, for workers of the subject firm.

The amended notice applicable to TA-W-54,952 is hereby issued as follows:

All workers of VF Intimates, LP, Johnstown, Pennsylvania, who became totally or partially separated from employment on or after March 6, 2004, through June 15, 2006, are eligible to apply for adjustment assistance under section 223 of the Trade Act of 1974.

Signed at Washington, DC, this 21st day of July, 2004.
Elliott S. Kushner,
Certifying Officer, Division of Trade Adjustment Assistance.

[FR Doc. 04-17717 Filed 8-3-04; 8:45 am]

BILLING CODE 4510-30-P